DEPARTMENT OF TRANSPORTATION

Federal Aviation Administration

14 CFR Part 65

[Docket No. FAA-2004-17334; SFAR No. 103]

RIN 2120-AI18

Process for Requesting Waiver of Mandatory Separation Age for Certain Federal Aviation Administration (FAA) Air Traffic Control Specialists

AGENCY: Federal Aviation Administration (FAA), DOT.

ACTION: Final rule; disposition of comments.

SUMMARY: On January 7, 2005, the FAA published Special Federal Aviation Regulation No. 103 establishing the procedures and some standards by which an air traffic controller in a flight service station, enroute or terminal facility, or at the David J. Hurley Air Traffic Control System Command Center may request a waiver of the mandatory separation age. The FAA requested comments on the SFAR. This action confirms that SFAR No. 103 remains in effect as adopted and disposes of the comments.

ADDRESSES: You can view the complete document for the final rule by going to http://dms.dot.gov. You can also go to Room PL-401 on the plaza level of the Nassif Building, 400 Seventh Street, SW., Washington, DC, between 9 a.m. and 5 p.m., Monday through Friday, except Federal holidays.

FOR FURTHER INFORMATION CONTACT: Wanda Reyna, ATO Workforce Services (ATO-A) Federal Aviation Administration, 800 Independence Avenue, SW., Washington, DC 20591; telephone (202) 267-3056.

SUPPLEMENTARY INFORMATION:

Background

Section 8335(a) of Title 5 of the United States Code mandates that the Secretary of Transportation, under regulations as he may prescribe, may exempt a controller having exceptional skills and experience as a controller from the automatic separation provisions or mandatory separation provisions of the statute until that controller becomes 61 years of age. The Transportation, Treasury, and Independent Agencies Appropriations Act for fiscal year 2004, H.R. 2673, 108th Cong. (2004) directed the Secretary to issue a regulation establishing the procedures by which an air traffic control specialist may request a waiver of the mandatory separation age. The FAA accordingly amended 14 CFR part 65 to add Special Federal Aviation Regulation (SFAR) No. 103 (70 FR 1634), effective January 7, 2005, and requested public comments by February 7, 2005.

Discussion of Comments

The docket received comments from 16 individuals. Many of the commenters essentially took issue with the “exceptional skills and experience” standard that will be used by the Administrator of the FAA to grant an exception. Congress established this standard in 5 U.S.C. 8835(a). This rule implements the process by which the Congressionally mandated standard will be applied.

Some commenters also expressed concern over the information FAA will rely upon to make the determination, as well as the lack of a mental or medical evaluation. The FAA has carefully tailored this rule to include the most relevant and necessary information for making the determination of whether a controller possesses the requisite exceptional skills and experience. Any controller granted a waiver will still have to meet the rigorous medical standards for air traffic controllers, including passing the annual air traffic controller physical examination.

A few commenters raised the question of whether allowing controllers to work past mandatory retirement will compromise safety. Congress, in effect, addressed this issue when it limited the eligibility for a waiver to controllers with exceptional skills and experience. The FAA will use the procedures in this rule, including review of all requests by the Air Traffic Manager and the senior executive manager in the Air Traffic Manager's regional chain of command, to assure that safety is not compromised.

Finally, some commenters were concerned with the fact that there is no right to appeal the denial or revocation of a waiver. While every applicant will be given full and due consideration, denial or revocation falls solely within the discretion of the Administrator. Accordingly, there is no right to appeal or grieve a denial or termination of an exemption.

Conclusion

After consideration of all comments submitted in response to the final rule, the FAA has determined that no further rulemaking action is necessary. Therefore, SFAR No. 103 remains in effect as adopted.

Issued in Washington, DC, on February 23, 2006.
Marion C. Blakey,
Administrator.

[FR Doc. 06-1951 Filed 3-1-06; 8:45 am]

BILLING CODE 4910-13-P